DEPARTMENT OF HEALTH AND HUMAN SERVICES

Centers for Disease Control and Prevention

[60Day-22-1317; Docket No. CDC-2022-0107]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled, National Healthcare Safety Network (NHSN) Coronavirus (COVID-19) Surveillance in Healthcare Facilities. Data collected through this version of NHSN is intended to inform the federal government's understanding of disease patterns, including the changing burden of disease, and develop policies for prevention and control of problems related to COVID-19.

DATES: CDC must receive written comments on or before November 14, 2022.

ADDRESSES: You may submit comments, identified by Docket No. CDC-2022-0107 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Healthcare Safety Network (NHSN) Coronavirus (COVID-19) Surveillance in Healthcare Facilities (OMB Control No. 0920-1317, Exp. 1/31/2024)—Revision—National Center for Emerging and Zoonotic Infectious Diseases (NCEZID), Centers for Disease Control and Prevention (CDC).

Background and Brief Description

Hospitals are key partners in the U.S. response to COVID-19. The response is locally executed, state managed, and federally supported. At the federal level, the U.S. Department of Health & Human Services (HHS) COVID-19 Response Function, the White House Coronavirus Response Team, and the Centers for Disease Control & Prevention (CDC) COVID-19 Response Function work together to support the effective operations of the American healthcare system. This collection initially began in March 2020 through a letter from then Vice President Pence to the nation's 4,700 hospitals, asking them to submit data daily on the number of patients tested for COVID-19, as well as information on bed capacity and requirements for other supplies. (https://www.cms.gov/files/document/32920-hospital-letter-vice-president-pence.pdf). CDC's National Healthcare Safety Network (NHSN) COVID-19 Module (OMB Control No. 0920-1290) was approved March 26, 2020 for the collection of hospital COVID-19 data. The NHSN COVID-19 Module also collects COVID-19 data from long-term care facilities and dialysis centers (collection was later revised and given OMB Control No. 0920-1317). Beginning July 2020, at the request of the White House Coronavirus Task Force, the collection of COVID-19 data from hospitals was moved to HHS/ASPR and housed in the TeleTracking portal. Collection of data from the other facilities remained with CDC under the NHSN COVID-19 Module.

Beginning in mid-December 2022, NHSN will resume the responsibility for collection of COVID-19 hospital data and will incorporate the TeleTracking data collection into 0920-1317. The purpose of this Revision request is to move the burden associated with collection of COVID-19 related data from hospitals to the CDC NHSN COVID-19 module. CDC requests OMB approval for an estimated 8,467,590 annual burden hours. 3,290,200 in burden hours will be added to this previous collection for the addition of the TeleTracking portal. There are no additional costs to respondents other than their time to participate.

Estimated Annualized Burden Hours
Type of respondent | Form name | Number of respondents | Number of responses per respondent | Average burden per response (in hours) | Total burden hours
LTCF personnel | NHSN and Secure Access Management Services (SAMS) enrollment | 11,500 | 1 | 60/60 | 11,500
LTCF personnel | COVID-19 Module, Long Term Care Facility: Resident Impact and Facility Capacity form (57.144) | 11,621 | 52 | 40/60 | 402,861
Business and financial operations occupations | COVID-19 Module, Long Term Care Facility: Resident Impact and Facility Capacity form (57.144) | 1,870 | 52 | 40/60 | 64,827
State and local health department occupations | COVID-19 Module, Long Term Care Facility: Resident Impact and Facility Capacity form (57.144) | 1,870 | 52 | 40/60 | 64,827
LTCF personnel | COVID-19 Module, Long Term Care Facility Resident Impact and Facility Capacity form (57.144) (retrospective data entry) | 5,811 | 1 | 40/60 | 3,874
Business and financial operations occupations | COVID-19 Module, Long Term Care Facility Resident Impact and Facility Capacity form (57.144) (retrospective data entry) | 935 | 1 | 40/60 | 623
State and local health department occupations | COVID-19 Module, Long Term Care Facility Resident Impact and Facility Capacity form (57.144) (retrospective data entry) | 935 | 1 | 40/60 | 623
LTCF personnel | COVID-19 Module, Long Term Care Facility: Staff and Personnel Impact form (57.145) | 11,621 | 52 | 15/60 | 151,073
Business and financial operations occupations | COVID-19 Module, Long Term Care Facility: Staff and Personnel Impact form (57.145) | 1,870 | 52 | 15/60 | 24,310
State and local health department occupations | COVID-19 Module, Long Term Care Facility: Staff and Personnel Impact form (57.145) | 1,870 | 52 | 15/60 | 24,310
LTCF personnel | COVID-19 Module, Long Term Care Facility Staff and Personnel Impact form (57.145) (retrospective data entry) | 5,811 | 1 | 15/60 | 1,453
Business and financial operations occupations | COVID-19 Module, Long Term Care Facility Staff and Personnel Impact form (57.145) (retrospective data entry) | 935 | 1 | 15/60 | 234
State and local health department occupations | COVID-19 Module, Long Term Care Facility Staff and Personnel Impact form (57.145) (retrospective data entry) | 935 | 1 | 15/60 | 234
LTCF personnel | COVID-19 Module, Long-Term Care Facility: Resident Therapeutics (57.158) | 11,621 | 52 | 10/60 | 100,715
Business and financial operations occupations | COVID-19 Module, Long-Term Care Facility: Resident Therapeutics (57.158) | 1,870 | 52 | 10/60 | 16,207
State and local health department occupations | COVID-19 Module, Long-Term Care Facility: Resident Therapeutics (57.158) | 1,870 | 52 | 10/60 | 16,207
LTCF personnel | LTCF VA Resident COVID-19 Event Form | 188 | 36 | 35/60 | 3,948
LTCF personnel | LTCF VA Staff and Personnel COVID-19 Event Form | 188 | 36 | 20/60 | 2,256
Facility personnel | Weekly Healthcare Personnel COVID-19 Vaccination Cumulative Summary | 12,600 | 52 | 90/60 | 982,800
LTCF personnel | Weekly Resident COVID-19 Vaccination Cumulative Summary for Long-Term Care Facilities | 16,864 | 52 | 75/60 | 1,096,160
Microbiologist (IP) | Weekly Patient COVID-19 Vaccination Cumulative Summary for Dialysis Facilities | 7,700 | 52 | 75/100 | 500,500
LTCF personnel | Monthly Reporting Plan form for Long-term Care Facilities | 16,864 | 9 | 5/60 | 12,648
Microbiologist (IP) | Healthcare Personnel Safety Monthly Reporting Plan—completed by Dialysis Facilities | 7,700 | 9 | 5/60 | 5,775
Microbiologist (IP) | Healthcare Personnel Safety Monthly Reporting Plan—completed by Inpatient Psychiatric Facilities | 394 | 12 | 5/60 | 394
Microbiologist (IP) | COVID-19 Dialysis Component Form | 4,900 | 104 | 20/60 | 169,867
Hospitals | NHSN COVID-19 Hospital Module | 6,000 | 365 | 90/60 | 3,285,000
Infusion Centers and Outpatient Clinics reporting Inventory & use of therapeutics (MABs) | NHSN COVID-19 Hospital Module | 400 | 52 | 15/60 | 5,200

Jeffrey M. Zirger,
Lead, Information Collection Review Office, Office of Scientific Integrity, Office of Science, Centers for Disease Control and Prevention.

[FR Doc. 2022-19562 Filed 9-9-22; 8:45 am]

BILLING CODE 4163-18-P